DEPARTMENT OF TRANSPORTATION

Maritime Administration

Reports, Forms and Recordkeeping Requirements; Agency Information Collection Activity under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on September 9, 2005, and comments were due by November 8, 2005. No comments were received.

DATES: Comments must be submitted on or before January 6, 2006.

FOR FURTHER INFORMATION CONTACT: Thomas Olsen, Maritime Administration, 400 Seventh Street, Southwest, Washington, DC 20590. Telephone: 202-366-2313; FAX: 202-366-9580; or E-mail: Thomas.olsen@dot.gov. Copies of this collection also can be obtained from that office.

SUPPLEMENTARY INFORMATION: Maritime Administration (MARAD).

Title: Determination of Fair and Reasonable Rates for Carriage of Agriculture Cargoes on U.S.-flag Commercial Vessels.

Omb Control Number: 2133-0514.

Type Of Request: Extension of currently approved collection.

Affected Public: U.S. citizens who own and operate U.S.-flag vessels.

Forms: MA-1025, MA-1026 and MA-172.

Abstract: This collection of information requires U.S.-flag operators to submit annual vessel operating costs and capital costs data to MARAD officials. The information is used by MARAD in determining fair and reasonable guideline rates for the carriage of preference cargoes on U.S.-flag vessels. In addition, U.S.-flag vessel operators are required to submit Post Voyage Reports to MARAD after completion of a cargo preference voyage.

Annual Estimated Burden Hours: 740 hours.

Addressee: Send comments to the Office of Information and Regulatory Affairs, Office of Management and Budget, 725 17th Street, Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC on November 30, 2005.
Joel C. Richard,
Secretary, Maritime Administration.

[FR Doc. E5-6918 Filed 12-6-05; 8:45 am]

BILLING CODE 4910-81-P